OFFICE OF PERSONNEL MANAGEMENT

Information Collection: Standard Form 3119—Application for Court-Ordered Benefits for Former Spouses

AGENCY: Office of Personnel Management.

ACTION: 60-Day notice and request for comments.

SUMMARY: The Retirement Services, Office of Personnel Management (OPM) offers the general public and other federal agencies the opportunity to comment on a new information collection, Standard Form 3119—Application for Court-Ordered Benefits for Former Spouses.

DATES: Comments are encouraged and will be accepted until May 22, 2020.

ADDRESSES: Interested persons are invited to submit written comments on the proposed information collection to Retirement Services, Office of Personnel Management, 1900 E Street NW, Washington, DC 20415, Attention: Alberta Butler, Room 2347-E, or sent via electronic mail to Alberta.Butler@opm.gov.

FOR FURTHER INFORMATION CONTACT: A copy of this information collection instrument with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 (Pub. L. 104-13, 44 U.S.C. chapter 35) OPM is soliciting comments for this collection (OMB No. 3206-NEW). We are particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 3119 will be used to collect the necessary information on the inaugural attempt, which eliminates the need to re-contact the customer to gather additional required information, ensure that OPM can process the apportionment correctly, and eliminate any delay in payment to the customers.

Analysis

Agency: Retirement Operations, Retirement Services, Office of Personnel Management.

Title: Application for Court-Ordered Benefits for Former Spouses (SF 3119).

OMB Number: 3206-NEW.

Frequency: On occasion.

Affected Public: Individuals or Households.

Number of Respondents: approximately 2,500 annually.

Estimated Time per Respondent: 60 minutes.

Total Burden Hours: 2,500 hours.

Office of Personnel Management.
Alexys Stanley,
Regulatory Affairs Analyst.

[FR Doc. 2020-06014 Filed 3-20-20; 8:45 am]

BILLING CODE 6325-38-P